DEPARTMENT OF ENERGY

Federal Energy Regulatory Commission

[Project No. 14655-001]

Cat Creek Energy, LLC; Notice of Comment Period Extension

On November 20, 2018, the Commission issued a notice setting January 22, 2019, as the end of the formal period to file comments, motions to intervene, competing applications (without notices of intent), or notices of intent to file competing applications on the successive permit application for the Cat Creek Energy Generation Facility Pumped Storage Hydroelectric Project No. 14655. Due to the funding lapse at certain federal agencies between December 22, 2018 and January 25, 2019, the Commission is extending the comment period to March 20, 2019.

Dated: February 13, 2019.
Kimberly D. Bose,
Secretary.

[FR Doc. 2019-02829 Filed 2-19-19; 8:45 am]

BILLING CODE 6717-01-P